DEPARTMENT OF THE TREASURY

Alcohol and Tobacco Tax and Trade Bureau

27 CFR Part 9

[Notice No. 68]

RIN 1513-AB26

Proposed Establishment of the Tulocay Viticultural Area (2006R-009P)

AGENCY: Alcohol and Tobacco Tax and Trade Bureau, Treasury.

ACTION: Notice of proposed rulemaking.

SUMMARY: The Alcohol and Tobacco Tax and Trade Bureau proposes to establish the 11,200-acre Tulocay viticultural area in Napa County, California. The proposed viticultural area lies totally within the Napa Valley viticultural area and the larger, multi-county North Coast viticultural area. We designate viticultural areas to allow vintners to better describe the origin of their wines and to allow consumers to better identify wines they may purchase. We invite comments on this proposed addition to our regulations.

DATES: We must receive written comments on or before January 8, 2007.

ADDRESSES: You may send comments to any of the following addresses:

• Director, Regulations and Rulings Division, Alcohol and Tobacco Tax and Trade Bureau, Attn: Notice No. 68, P.O. Box 14412, Washington, DC 20044-4412.

• 202-927-8525 (facsimile).

• nprm@ttb.gov (e-mail).

• http://www.ttb.gov/regulations_laws/all_rulemaking.shtml. An online comment form is posted with this notice on our Web site.

• http://www.regulations.gov (Federal e-rulemaking portal; follow instructions for submitting comments).

You may view copies of this notice, the petition, the appropriate maps, and any comments we receive about this proposal by appointment at the TTB Information Resource Center, 1310 G Street, NW., Washington, DC 20220. To make an appointment, call 202-927-2400. You may also access copies of the notice and comments online at http://www.ttb.gov/regulations_laws/all_rulemaking.shtml.

See the Public Participation section of this notice for specific instructions and requirements for submitting comments, and for information on how to request a public hearing.

FOR FURTHER INFORMATION CONTACT: N. A. Sutton, Regulations and Rulings Division, Alcohol and Tobacco Tax and Trade Bureau, 925 Lakeville St., No. 158, Petaluma, CA 94952; phone 415-271-1254.

SUPPLEMENTARY INFORMATION:

Background on Viticultural Areas

TTB Authority

Section 105(e) of the Federal Alcohol Administration Act (the FAA Act, 27 U.S.C. 201 et seq.) requires that alcohol beverage labels provide consumers with adequate information regarding product identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Tulocay Petition

TTB received a petition from Aaron Pott, a winemaker in Quintessa, and Marshall Newman of Newman Communications, on behalf of the vintners and grape growers in the Tulocay region of Napa Valley, California, proposing the establishment of the Tulocay viticultural area. The proposed Tulocay viticultural area, according to regional maps and petition information, lies 45 miles east of the Pacific Ocean and 16 miles north of San Pablo Bay. It encompasses 11,200 acres—900 acres of which are dedicated to commercial vineyards, according to the petitioners. The proposed Tulocay viticultural area is located between four established viticultural areas: The Oak Knoll District of Napa Valley viticultural area to the northwest, the Wild Horse Valley and Solano County Green Valley viticultural areas to the east, and the Los Carneros viticultural area to the southwest. The proposed Tulocay boundary does not overlap any of these four viticultural areas and is totally within the boundaries of the Napa Valley and North Coast viticultural areas.

We summarize below the supporting evidence submitted with the petition.

Name Evidence

Both the “Tulocay” and “Tulucay” spellings have been used since the middle 1800s and, according to the petitioners, reflect the same geographical place name in Napa County. The petitioners use the “Tulocay” spelling for this viticultural area petition.

The history of the “Tulocay” name, the petitioners explain, originates with an American Indian village in the area. “California Place Names,” by Erwin G. Gudde, originally published in 1949 and revised in 1998, spells the name as “Tulucay” and refers to “tulkays” and “ulucas” as names of inhabitants of the American Indian village. “Old Napa Valley—The History to 1900,” by Lin Weber, published in 1998, states that the “Tulucay” name comes from an old Wintun American Indian settlement in the area.

In 1841, Cayetano Juarez named his 8,866-acre Napa area land grant as “Tulucay Rancho.” “Tulucay, the Past is Father of the Present,” by Viviene Juarez Rose, includes a description of the 1844 Tulocay adobe construction, as provided by Domitila Juarez Metcalf, who was the daughter of Cayetano Juarez. The Juarez Adobe, according to the petitioners, remains standing today and is used as a restaurant. Also, Tulocay Creek, thought to be named by Cayetano Juarez, runs south of the Juarez Adobe.

In 1858, according to the Napa Record newspaper, Juarez deeded 48 acres of his land grant for a cemetery in Tulocay. Today the Tulocay Cemetery serves as a Napa Valley non-sectarian cemetery. The cemetery name, the petitioners explain, reflects the historical significance of the “Tulocay” name to the region.

A County of Napa, California, map dated 1876 identifies “Rancho Tulucay” to the east of the town of Napa. Also, a 1902 United States Coast and Geodetic Survey regional topographic map shows the Tulucay land grant. Further, three USGS topographic maps label the region as “Tulocay:” The 1:100,000-scale metric of Napa, California, dated 1983; the Mt. George Quadrangle map, photoinspected in 1973; and the Napa Quadrangle map, photorevised in 1980.

Boundary Evidence

The history of winemaking in the Tulocay region dates to the 1860s, according to documentation provided in the petition. “The Historical and Descriptive Sketchbook of Napa, Sonoma, Lake and Mendocino,” written by C.A. Menefee and published in 1873, describes a large vineyard area four miles northeast of the City of Napa, to the east of the Tulocay land grant. The vineyard, the petitioners explain, passed through several ownerships, and continued producing grapes until at least 1954. Also, Palaz Vineyard and Silverado Vineyards more recently replanted grapes in the same vineyard area.

The modern revival of grape growing in the Tulocay region, the petitioners state, started in 1968 with the Hayes Vineyard near the center of the proposed Tulocay viticultural area. Other Tulocay region vineyard plantings include Olive Hill in 1973, Farella-Park in 1979, Caldwell in 1982, and Sarco in 1992.

The boundaries of the proposed Tulocay viticultural area, according to the petitioners, include about 65 percent of the original Tulocay land grant. The petitioners explain that the long viticultural history and distinctive geography of the Tulocay region fail to coincide exactly with the boundaries of the original Tulocay land grant. The petitioners include only the Tulocay lands that meet historic and distinguishing features criteria appropriate for the proposed viticultural area. The proposed viticultural area boundary line, according to the petitioners, safeguards the viticultural integrity and uniformity of the distinguishing features of the Tulocay grape-growing region.

The proposed Tulocay viticultural area is nestled in the southeastern region of the Napa Valley viticultural area, between the City of Napa at the Napa River and the western Solano County line along the western ridgeline of the Vaca Range. The boundary line determination for the proposed Tulocay viticultural area includes careful petitioner consideration of surrounding established viticultural areas, each with a distinctive name, history, and set of distinguishing features.

The eastern proposed Tulocay viticultural area boundary line incorporates a combination of generally straight lines between unnamed western Vaca Range peaks and portions of the Napa-Solano County line, as noted in the written boundary description. With two small modifications to keep the proposed Tulocay viticultural area totally within Napa County, the proposed boundary line corresponds closely to, without overlapping, the Wild Horse Valley and Solano County Green Valley viticultural areas' western boundary lines, according to the written boundary descriptions. The proposed Tulocay eastern boundary line defines the extent of the “Tulocay” geographical name recognition, the petitioners explain. Also, the proposed line includes all the vineyards on the historic Woodward/Hagen/Cedar Knoll property and the Farella-Park Vineyard, which are important to Tulocay's modern viticultural claim.

The southern proposed Tulocay viticultural area boundary line, as noted in the written boundary description, uses a straight southeast-to-northwest line from an unnamed 1,686-foot peak to Imola Avenue, and then continues west on Imola Avenue to the Napa River. The proposed southern boundary line takes in Caldwell Vineyards, a part of Tulocay's modern viticultural history, according to the petitioners. Also, immediately beyond the proposed southern boundary line sits an imposing east-west transverse ridge that climatically isolates the Tulocay region from the full impact of the marine influence of San Pablo Bay. The transverse ridge also separates Tulocay from a floodplain with differing soils and climate, and from the Napa River's transition to a broad slough. The petitioners note that it is difficult to use the complex terrain of the transverse ridge to develop a precise and sensible southern boundary line for the proposed Tulocay viticultural area. Accordingly, the petitioners use a straight line between two map points and a portion of Imola Avenue to define the southern limits of the proposed area.

The western proposed Tulocay viticultural area boundary line relies on the Napa River and Milliken Creek to connect Imola Avenue on the south to Monticello Road on the north, according to the written boundary description and the Napa USGS map. Also, the proposed western boundary line closely reflects the western Tulocay land grant line, and includes the historic Tulocay Cemetery and the Juarez Adobe.

The northern proposed Tulocay viticultural area boundary line uses Monticello Road and a straight line from the road's intersection with a 400-foot contour line to the peak of Mt. George, as noted in the written boundary description. Much of the length of the proposed north boundary line follows the ridge line separating Sarco Creek on the south from MiIliken Creek on the north, the petitioners explain. Also, the proposed northern boundary line includes Tulocay's historical vineyards and the northernmost limit of its distinctive climate.

Distinguishing Features

The proposed Tulocay viticultural area's distinguishing features, as described in the petition, include climate, soil, and geography. Steve Newman, a meteorologist at Earth Environment Service, prepared documentation for the climate section of this petition. Sidney W. Davis, a professional soil scientist at Davis Consulting Earth Scientists, prepared documentation for the geology, geography, and soil sections of the petition.

Climate

The geographical location and terrain configuration of the proposed Tulocay viticultural area create a unique microclimate within Napa Valley. The Tulocay region growing season climate gets more sun and sustained heat than the foggy Napa Valley flatlands to the south and west, but less than the more northern areas of Napa Valley. Also, in the Napa Valley area, the daily summer heating and cooling patterns are based on the cold marine air and fog drawn onshore and north from the San Pablo Bay through the flatlands, small valleys, and gaps in higher terrain.

Tulocay, which climatically contrasts to its southern neighbors, the Los Carneros and Suscol Creek regions within Napa Valley, sits apart in a fog-protected partial basin with high ridges. The Los Carneros and Suscol Creek terrains include predominantly flat, open topography, allowing unprotected and full summertime exposures to the cooling fog influence of San Pablo Bay, the petitioners explain. Also, the open terrain geographically contrasts with the protective ridges that partially surround Tulocay's basin landform.

The Tulocay viticultural Climate Region II classification averages between 2,750 and 3,000 total degree-days annually, based on a heat summation system. (One degree day accumulates for each degree that a day's mean temperature is above 50 degrees Fahrenheit, which is the minimum temperature required for grapevine growth; see “General Viticulture,” Albert J. Winkler, University of California Press, 1975.)

Documentation by Mr. Newman and information from “General Viticulture” provide a basis for the climate tables below. The first table defines each of the five climate regions by annual number of degree-days. The second table shows the heat summation range of Napa Valley by climate region, comparing the Tulocay area to other Napa Valley regions.

Climate region | Heat summations by degree-days
I | Less than 2,500.
II | 2,501 to 3,000.
III | 3,001 to 3,500.
IV | 3,501 to 4,000.
V | 4,001 or more.

Climatic region | Area of Napa Valley | Location in Napa Valley
I | Los Carneros | South.
I | Suscol Creek | South.
II | Tulocay | Southeast.
II | Oak Knoll | South central.
III | Oakville | North central.
III | St. Helena | Northwest.
III | Calistoga | Northwest.

The table above shows Napa Valley growing season temperatures, south to north, that span from Climate Region I to Region III. Mr. Newman's documentation demonstrates the climatic variability of the Napa Valley viticultural area based on distances from the cooling influence of the San Pablo Bay and the varying open or protective topography.

In the morning, the cooling marine fog in the Tulocay region usually burns off by about 10 a.m. giving way to sunshine, which occurs one to two hours earlier than in the foggier Los Carneros and Suscol Creek areas to the south and west. The transverse ridge south of Tulocay serves as a dividing line between the geographic isolation of Tulocay and the cooler and foggier open terrain to its south and west in the Los Carneros region, Mr. Newman explains.

In the afternoon the inland heat of the Napa Valley region draws the foggy, marine air off the Pacific Ocean, through the Golden Gate and San Francisco Bay, and north across San Pablo Bay into Napa Valley, according to Mr. Newman's description. The Bay's cooling marine influence, wind, and fog permeate the Los Carneros and Suscol Creek areas before traveling north and up the Napa Valley. Between 2:30 p.m. and 3 p.m., the cooling breezes draw over Tulocay's western low ridge and southwest gap. Mr. Newman explains that the Tulocay region remains breezy, cool and sunny in the later afternoon, with fog developing in the evening hours. Also, the rest of Napa Valley to the north receives the cooling marine air later in the afternoon than the Tulocay region.

In summary, Mr. Newman states that Tulocay enjoys a warmer and sunnier summer growing season than the cooler and foggier neighboring areas to the south and west, but a cooler, less sunny growing season than areas to the north. Also, the Tulocay fog gives way to sunshine earlier in the day, and the cooling marine winds arrive later in the day than the fogs in the Los Carneros and Suscol Creek regions to the south and west. Tulocay's ample sunshine, moderate warmth, and brief durations of the maximum temperatures during the summer, combine to create a unique grape-growing climate.

Geology

The western ridge of the Vaca Range, which is also the eastern proposed Tulocay viticultural area boundary line, consists of Sonoma Volcanics (pyroclastic rocks), according to the “Geologic Map of the Santa Rosa Quadrangle,” by Wagner and Bortugno, published in 1982. The Sonoma Volcanics, according to the geologic map, extend both north and south of the proposed Tulocay viticultural area boundary line. Mr. Davis adds that valley fill is superimposed on top of the volcanic materials to the west, with predominantly uplifted and folded marine sediments to the east.

The center of the proposed Tulocay viticultural area, according to Mr. Davis, sits on a horseshoe-shaped valley cut into volcanic rock and backfilled with alluvial deposits. Also, the western-most part of the proposed viticultural area includes a remnant island, or highland of volcanic rock, to the east of the Napa River.

Geography

The Tulocay area sits in a partial basin landform. The basin geography includes a low ridge along Monticello Road at the proposed north boundary line; a high ridge from the Vaca Range along the proposed east boundary line; a high transverse ridge to the immediate south of the proposed boundary line; a small, low elevation opening to the southwest for Tulocay Creek; and a river and adjoining creek along the proposed western boundary line, according to Mr. Davis' description. The elevations of the proposed Tulocay viticultural area, according to USGS maps of the region, vary from about 10 feet at the Napa River shoreline to 1,800 feet at the northeast corner of the proposed viticultural area along the western ridge of the Vaca Range.

The Tulocay crescent-shaped landform, an area with low and gentle topography, faces erosion from small watersheds, according to the petitioners. The Sarco, Kreuse, and Tulocay creeks flow east to west and through the proposed viticultural area into the Napa River, according to the USGS maps. The Tulocay area slopes are generally west-southwest, Mr. Davis states, with a lesser number of east-northeast facing slopes that provide for variability in soil development.

Soils

Soils in the proposed Tulocay viticultural area develop primarily from the volcanic parent materials and related weathering products, according to Mr. Davis. The soils form through stream deposition and gravitational processes, possibly from a combination of river terraces and landslide deposits. Also, the soils develop in a xeric climate, noted for moist, cool winters and warm, dry summers.

The proposed Tulocay viticultural area includes 17 soils map units, representing a combination of 10 individual soil series, according to the “Soil Survey of Napa County,” published in 1978 by the United States Department of Agriculture (USDA), Soil Conservation Service (SCS). The table below lists the predominant parent materials, landforms and soil series' associations of the proposed Tulocay viticultural area.

Parent materials | Landform | Soil series association
Alluvial | Flood plains | Bale-Cole-Yolo (deeper than 60 inches, poorly to well-drained).
Alluvial | Terraces | Haire-Coombs (deeper than 60 inches, well-drained with moderately acid topsoil over strongly acid subsoil).
Volcanic | Uplands | Kidd-Hambright-Sobrante-Guenoc-Forward (depth ranges from less than 12 inches to more than 60 inches, well-drained, and moderately acid).

The proposed Tulocay viticultural area dominant soils associations include terrace soils (Haire-Coombs association) and upland soils (Kidd-Hambright-Sobrante-Guenoc-Forward association) in almost equal percentages. Also, the low-lying alluvial soils (Bale-Cole-Yolo association) exist to a minor extent in the Tulocay area.

Prominent soil features of the proposed Tulocay viticultural area include significant amounts of allophone, imoglolite, and ferrihydrite with high phosphate retention, according to Mr. Davis. Also, andic soil properties, found in the residual soils, come from the weathering of volcanic parent materials. Thick and dark topsoil (Mollisols) prominently blankets the area with high organic carbon content, providing soil fertility and a nutrient reservoir for sustainable and reliable long-term viticulture, Mr. Davis explains.

Mr. Davis states that the regions surrounding the proposed Tulocay viticultural area include soil types different from those found within the proposed boundary. To the north the soils predominantly include residual upland types, with a small percentage of alluvial soils. To the east, along the west-facing steep mountain slopes of the Vaca Range, the shallow soils cover hard bedrock. To the south the soils include heavy texture clays derived from marine, feldspar-rich sandstone. To the west, the Napa River and Milliken Creek create an environment of low-lying flood plain soils.

The Tulocay soils composition develops entirely from residual volcanic parent material and its secondary weathering products, a rare occurrence in a California viticultural area, according to Mr. Davis. Also, the unique Tulocay soils include well-drained, volcanically-influenced, and organic matter-rich properties. Mr. Davis concludes that the Tulocay dominant soil characteristics and prevalent properties distinguish the proposed viticultural area from other areas of the region.

Comparison of the Proposed Tulocay Viticultural Area to the Established Napa Valley Viticultural Area

The 11,200-acre proposed Tulocay viticultural area sits entirely within the larger Napa Valley viticultural area, according to the petitioners. The Tulocay proposed boundary land space occupies about three percent of the Napa Valley viticultural area.

The climate of the Tulocay region, according to Mr. Newman, includes the lack of degree-day variation, in contrast to the larger Napa Valley viticultural area. Mr. Newman explains that the Tulocay area experiences Climate Region II degree-days during the growing season, while Napa Valley areas to the south, and closer to the San Pablo Bay, experience cooler Climate Region I degree-days. Napa Valley regions to the north of Tulocay and the City of Napa experience warmer Climate Region III degree-days.

The partial basin geography of the Tulocay region, according to Mr. Newman, provides protective climatic boundaries. Also, to the southwest of the Tulocay region lies the relatively flat Los Carneros area in close proximity to the San Pablo Bay. The northern regions of the Napa Valley, according to topographical maps of the area, include a relatively flat, narrow valley floor and mountain ranges on the east and west sides.

The soils of the Tulocay region, Mr. Davis explains, include residual volcanic parent material and secondary weathering products. Also, the soil features include well-drained, volcanically-influenced and organic matter-rich properties that create a growing environment for nutrient-rich, sustainable viticulture.

The petitioner emphasizes that the Tulocay viticultural area petition documents the history, geographical name identification, and distinguishing viticultural features of the small Tulocay region without detracting from the well-known Napa Valley name and distinctive winegrowing elements. TTB believes that the previous establishment of 14 other viticultural areas completely or partially within the boundary of the 400,000-acre Napa Valley viticultural area provides evidence of its wide spectrum of distinguishing features. TTB concludes that this petition to establish the 11,200-acre Tulocay viticultural area merits consideration and public comment as invited in this notice.

Boundary Description

See the narrative boundary description of the petitioned-for viticultural area in the proposed regulatory text published at the end of this notice.

Maps

The petitioners provided the required maps, and we list them below in the proposed regulatory text.

Impact on Current Wine Labels

Part 4 of the TTB regulations prohibits any label reference on a wine that indicates or implies an origin other than the wine's true place of origin. If we establish this proposed viticultural area, its name, “Tulocay,” will be recognized as a name of viticultural significance under 27 CFR 4.39(i)(3). The text of the proposed regulation clarifies this point. Consequently, wine bottlers using “Tulocay” in a brand name, including a trademark, or in another label reference as to the origin of the wine, will have to ensure that the product is eligible to use the viticultural area's name as an appellation of origin. The proposed part 9 regulatory text set forth in this document specifies the “Tulocay” name as a term of viticultural significance for purposes of part 4 of the TTB regulations.

Additionally, because an alternate spelling of “Tulocay” appears in the petition and is cited in this notice as evidence of the area name, TTB wishes to clarify that the establishment of this viticultural area as “Tulocay” precludes the use of the alternate spelling “Tulucay.” Thus, the name “Tulucay” will not be permitted in any reference as to the origin of the wine.

For a wine to be eligible to use as an appellation of origin a viticultural area name or other term specified as being viticulturally significant in part 9 of the TTB regulations, at least 85 percent of the wine must be derived from grapes grown within the area represented by that name or other term, and the wine must meet the other conditions listed in 27 CFR 4.25(e)(3). If the wine is not eligible to use the viticultural area name or other term as an appellation of origin and that name or other term appears in the brand name, then the label is not in compliance and the bottler must change the brand name and obtain approval of a new label. Similarly, if the viticultural area name or other term appears in another reference on the label in a misleading manner, the bottler would have to obtain approval of a new label. Accordingly, if a new label or a previously approved label uses the name “Tulocay” for a wine that does not meet the 85 percent standard, the new label will not be approved, and the previously approved label will be subject to revocation, upon the effective date of the approval of the Tulocay viticultural area.

Different rules apply if a wine has a brand name containing a viticultural area name or other viticulturally significant term that was used as a brand name on a label approved before July 7, 1986. See 27 CFR 4.39(i)(2) for details.

Public Participation

Comments Invited

We invite comments from interested members of the public on whether we should establish the proposed viticultural area. We also are interested in receiving comments on the sufficiency and accuracy of the name, boundary, climate, and other required information submitted in support of the petition. Please provide any available specific information in support of your comments.

Because of the potential impact of the establishment of the proposed Tulocay viticultural area on wine labels that includes the word “Tulocay” as discussed above under Impact on Current Wine Labels, we are particularly interested in comments regarding whether there will be a conflict between the proposed area name and currently used brand names, including any brand names using the alternative spelling “Tulucay.” If a commenter believes that a conflict will arise, the comment should describe the nature of that conflict, including any negative economic impact that approval of the proposed viticultural area will have on an existing viticultural enterprise. We are also interested in receiving suggestions for ways to avoid any conflicts, for example by adopting a modified or different name for the viticultural area.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/regulations_laws/all_rulemaking.shtml. Select the “Send comments via e-mail” link under this notice number.

• Federal e-rulemaking portal: To submit comments to us via the Federal e-rulemaking portal, visit http://www.regulations.gov and follow the instructions for submitting comments.

You may also write to the Administrator before the comment closing date to ask for a public hearing. The Administrator reserves the right to determine whether to hold a public hearing.

Confidentiality

All submitted material is part of the public record and subject to disclosure. Do not enclose any material in your comments that you consider confidential or inappropriate for public disclosure.

Public Disclosure

You may view copies of this notice, the petition, the appropriate maps, and any comments we receive by appointment at the TTB Information Resource Center at 1310 G Street, NW., Washington, DC 20220. You may also obtain copies at 20 cents per 8.5- x 11-inch page. Contact our information specialist at the above address or by telephone at 202-927-2400 to schedule an appointment or to request copies of comments.

For your convenience, we will post this notice and any comments we receive on this proposal on the TTB Web site. We may omit voluminous attachments or material that we consider unsuitable for posting. In all cases, the full comment will be available in the TTB Information Resource Center. To access the online copy of this notice and the submitted comments, visit http://www.ttb.gov/regulations_laws/all_rulemaking.shtml. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Rulings Division drafted this notice.

List of Subjects in 27 CFR Part 9

Wine.

Proposed Regulatory Amendment

For the reasons discussed in the preamble, we propose to amend title 27, chapter 1, part 9, Code of Federal Regulations, as follows:

PART 9—AMERICAN VITICULTURAL AREAS

1. The authority citation for part 9 continues to read as follows:

Authority: 27 U.S.C. 205.

Subpart C—Approved American Viticultural Areas

2. Amend subpart C by adding § 9.______ to read as follows:

§ 9.______ Tulocay.

(a) Name. The name of the viticultural area described in this section is “Tulocay”. For purposes of part 4 of this chapter, “Tulocay” is a term of viticultural significance.

(b) Approved maps. The appropriate maps for determining the boundary of the Tulocay viticultural area are two United States Geological Survey 1:24,000 scale topographic maps. They are titled:

(1) Mt. George Quadrangle, California, 1951, Photoinspected 1973; and

(2) Napa Quadrangle, California-Napa Co., 1951, Photorevised 1980.

(c) Boundary. The Tulocay viticultural area is located in Napa County, California. The boundary of the Tulocay viticultural area is as described below:

(1) The beginning point is on the Mt. George map at the 1,877-foot peak of Mt George, section 29, T6N/R3W;

(2) From the beginning point, proceed 0.4 mile straight southeast to the intersection of the 1,400-foot elevation line and an unnamed intermittent creek, feeding northeast into Leonia Lakes, section 29, T6N/R3W; then

(3) Proceed 0.45 mile straight east-southeast to the intersection of the 1,380-foot elevation line and an unnamed, unimproved dirt road and then continue in the same straight line of direction to the section 29 east boundary line, T6N/R3W, Mt. George Quadrangle; then

(4) Proceed 0.6 mile straight south-southeast to the unnamed 1,804-foot elevation point in the northwest quadrant of section 33, T6N/R3W, Mt. George Quadrangle; then

(5) Proceed southerly in a straight line for 0.95 mile to the corner of the Napa-Solano County line at the 1,731-foot elevation point on the T6N/T5N boundary line, R3W, Mt. George Quadrangle; then

(6) Proceed southerly for 0.3 mile along the Napa-Solano County line to its intersection with a 1,600-foot pinnacle that straddles the county line, section 4, T5N/R3W, Mt. George Quadrangle; then

(7) Proceed southerly in a straight line for 0.9 mile to the 1,480-foot elevation point along the section 9 north boundary line, T5N/R3W, Mt. George Quadrangle; then

(8) Continue southerly in a straight line for 1.3 miles to the 1,351-foot elevation point, section 16, T5N/R3W, Mt. George Quadrangle; then

(9) Proceed 0.85 mile straight southwest to the corner of the Napa-Solano County line immediately inside of the section 17 south boundary line, T5N/R3W, Mt. George Quadrangle; then

(10) Proceed southwesterly for 0.7 mile along the Napa-Solano County line to its intersection with the 1,686-foot elevation peak, east of Sugarloaf, section 20, T5N/R3W, Mt. George Quadrangle; then

(11) Proceed northwesterly in a straight line for 2.1 miles to the 90-degree turn of Imola Avenue at the 136-foot elevation point, section 13, T5N/R4W, Mt. George Quadrangle; then

(12) Proceed west for 2.1 miles along Imola Avenue, crossing onto the Napa map, to its intersection with the Napa River at the Maxwell Bridge, T5N/R4W, Napa Quadrangle;

(13) Proceed northerly (upstream) for 3.2 miles along the Napa River to its intersection with Milliken Creek, T6N/R4W, Napa Quadrangle; then

(14) Continue northerly (upstream) for 0.75 mile along Milliken Creek to its intersection with Monticello Road, T6N/R4W, Napa Quadrangle; then

(15) Proceed northeasterly for 2.4 miles along Monticello Road, crossing onto the Mt. George map, to its intersection with the section 19 west boundary line, T6N/R3W; and

(16) Proceed east-southeasterly in a straight line for 1.4 miles and return to the beginning point at the 1,877-foot peak of Mt. George.

Signed: October 13, 2006.
John J. Manfreda,
Administrator.

[FR Doc. E6-18891 Filed 11-7-06; 8:45 am]

BILLING CODE 4810-31-P